DEPARTMENT OF HOMELAND SECURITY

Federal Emergency Management Agency

[Docket ID FEMA-2021-0002; Internal Agency Docket No. FEMA-B-2110]

Proposed Flood Hazard Determinations

Correction

In notice document 2021-04143, appearing on pages 12015-12016, in the issue of Monday, March 1, 2021, make the following correction:

The tables appearing on pages 12015-12016 should read as set forth below.

Community | Community map repository address
Madison County, Georgia and Incorporated Areas
Project: 18-04-0003S Preliminary Date: May 27, 2020
Unincorporated Areas of Madison County | Madison County Government Courthouse, Building and Zoning Office, 91 Albany Avenue, Danielsville, GA 30633.
Oglethorpe County, Georgia and Incorporated Areas
Project: 18-04-0003S Preliminary Date: May 27, 2020
City of Maxeys | Maxeys City Hall, 369 South Main Street, Stephens, GA 30667.
Unincorporated Areas of Oglethorpe County | Oglethorpe County Board of Commissioners Office, 105 Union Point Road, Lexington, GA 30648.
Butte-Silver Bow County, Montana (All Jurisdictions)
Project: 20-08-0038S Preliminary Date: August 28, 2020
Butte-Silver Bow County | Butte-Silver Bow Courthouse, 155 West Granite Street, Room 108, Butte, MT 59701.
Cannon County, Tennessee and Incorporated Areas
Project: 18-04-0025S Preliminary Date: February 13, 2020
Town of Woodbury | Town Hall, 101 West Water Street, Woodbury, TN 37190.
Unincorporated Areas of Cannon County | Cannon County Court House, 200 West Main Street, Woodbury, TN 37190.
Rutherford County, Tennessee and Incorporated Areas
Project: 18-04-0025S Preliminary Date: February 13, 2020
City of La Vergne | Planning and Codes Department, 5175 Murfreesboro Road, La Vergne, TN 37086.
City of Murfreesboro | City Hall, 111 West Vine Street, Murfreesboro, TN 37130.
Town of Smyrna | Town Hall, 315 South Lowry Street, Smyrna, TN 37167.
Unincorporated Areas of Rutherford County | Rutherford County Planning Department, 1 South Public Square, Room 200, Murfreesboro, TN 37130.
Wilson County, Tennessee and Incorporated Areas
Project: 18-04-0025S Preliminary Date: February 13, 2020
City of Mt. Juliet | City Hall, 2425 North Mount Juliet Road, Mt. Juliet, TN 37122.
Unincorporated Areas of Wilson County | Wilson County Court House, Planning Office, 228 East Main Street, Room 5, Lebanon, TN 37087.
Dinwiddie County, Virginia and Incorporated Areas
Project: 19-03-0016S Preliminary Date: September 30, 2020
Unincorporated Areas of Dinwiddie County | Dinwiddie County Government Center, 14010 Boydton Plank Road, Dinwiddie, VA 23841.
Fauquier County, Virginia and Incorporated Areas
Project: 14-03-3327S Preliminary Date: September 15, 2020
Town of Remington | Town Office, 105 East Main Street, Remington, VA 22734.
Town of The Plains | Post Office, 4314 Fauquier Avenue, The Plains, VA 20198.
Town of Warrenton | Town Office, 21 Main Street, Warrenton, VA 20186.
Unincorporated Areas of Fauquier County | Fauquier County GIS Department, 29 Ashby Street, Warrenton, VA 20186.
Prince William County, Virginia and Incorporated Areas
Project: 14-03-3327S Preliminary Date: September 30, 2020
City of Manassas | Public Works Building, Engineering Department, 8500 Public Works Drive, Manassas, VA 20110.
City of Manassas Park | City Hall, 1 Park Center Court, Manassas Park, VA 20111.
Town of Dumfries | Town Hall, Zoning Administrator's Office, 17739 Main Street, Suite 200, Dumfries, VA 22026.
Town of Haymarket | Town Hall, 15000 Washington Street, Suite 100, Haymarket, VA 20169.
Town of Occoquan | Town Clerk's Office, 314 Mill Street, Occoquan, VA 22125.
Town of Quantico | Town Hall, 337 5th Avenue, Quantico, VA 22134.
Unincorporated Areas of Prince William County | Prince William County Department of Public Works, Watershed Management Branch, 5 County Complex Court, Prince William, VA 22192.

[FR Doc. C1-2021-04143 Filed 4-5-21; 8:45 am]

BILLING CODE 1301-00-D